ELECTION ASSISTANCE COMMISSION

Sunshine Act Meetings

AGENCY: Election Assistance Commission.

ACTION: Sunshine Act notice; Notice of public meeting agenda.

SUMMARY: Public Meeting; U.S. Election Assistance Commission: Voting System Certification to VVSG 2.0.

DATES: Wednesday, July 16, 11:00 a.m.-12:30 p.m. ET.

ADDRESSES: The meeting will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will conduct an open meeting on the certification of a voting system to the Voluntary Voting System Guidelines (VVSG) 2.0.

Agenda: During the meeting, the EAC Commissioners will lead a discussion with EAC staff, the voting system vendor, and the voting system test laboratory on the process of certifying the first system to VVSG 2.0. The panelists will also discuss next steps for VVSG 2.0 certified systems.

The full agenda will be posted in advance on the EAC website: https://www.eac.gov.

Background: Section 221 of the Help America Vote Act (HAVA) of 2002 (52 U.S.C. 20971(b)) requires that the EAC to adopt voluntary voting system guidelines, and to provide for the testing, certification, decertification, and recertification of voting system hardware and software.

On February 10, 2021, the EAC Commissioners unanimously approved the most recent iteration, VVSG 2.0. Since the approval of VVSG 2.0, the EAC has worked on the next steps and materials so these standards and requirements can be implemented, and new voting systems can be manufactured and tested to those standards.

Status

This meeting will be open to the public. Please note that comments submitted in response to this Notice are public record. Before including any detailed personal information, you should be aware that your submitted comments, including your personal information, will be available for public review.

Seton Parsons,
Associate Counsel, U.S. Election Assistance Commission.

[FR Doc. 2025-12058 Filed 6-26-25; 4:15 pm]

BILLING CODE 4810-71-P